DEPARTMENT OF HEALTH AND HUMAN SERVICES

Substance Abuse and Mental Health Services Administration

Fiscal Year (FY) 2001 Funding Opportunities

AGENCY: Substance Abuse and Mental Health Services Administration, HHS.

ACTION: Notice of funding availability.

SUMMARY: The Substance Abuse and Mental Health Services Administration (SAMHSA) Center for Mental Health Services (CMHS) announces the availability of FY 2001 funds for cooperative agreements for the following activity. This notice is not a complete description of the activity; potential applicants must obtain a copy of the Guidance for Applicants (GFA), including Part I, Targeted Capacity Expansion Cooperative Agreements to Meet Emerging and Urgent Mental Health Services Needs of Communities (short title: Build Mentally Healthy Communities), and Part II, General Policies and Procedures Applicable to all SAMHSA Applications for Discretionary Grants and Cooperative Agreements, before preparing and submitting an application.

Activity | Application deadline | Estimated funds FY 2001 | Estimated number of awards | Project period
Build Mentally Healthy Communities | May 21, 2001 | $14 million | 35 | 3 years.

The actual amount available for the award may vary, depending on unanticipated program requirements and the number and quality of application received. FY 2001 funds for the activity discussed in this announcement were appropriated by Congress under Public Law 106-310. SAMHSA's policies and procedures for peer review and Advisory Council review of grant and cooperative agreement application were published in the Federal Register (Vol. 58, No. 126 page 35962) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: National Mental Health Services Knowledge Exchange, Network (KEN), P.O. Box 42490, Washington, DC 20015, Telephone: 1-800-789-2647.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose

The Substance Abuse and Mental Health Services Administration (SAMHSA) Center for Mental Health Services (CMHS) announces the availability of FY 2001 funds for developing service capacity for persons with priority mental health needs. Cooperative agreements are made pursuant to CMHS' new “Targeted Capacity Expansion” (TCE) program. The program title is Build Mentally Healthy Communities.

The purpose of this initiative is to increase the capacity of cities, counties, and tribal governments to provide prevention and treatment services to meet emerging and urgent mental health needs of communities. The program will help communities to build the service system infrastructure necessary to address serious local or regional mental health problems through prevention and treatment interventions having a strong evidence base.

The two overall goals of the program are: (1) To develop mental health prevention and early intervention services targeted to infants, toddlers, pre-school and school-aged children and adolescents in both mental health and non-mental health settings (Group I).

(2) To improve mental health services delivery in non-mental health settings, such as primary health care sites in the following two specific areas (Group II): Expansion of mental health services in non-mental health settings to designated priority populations (homeless adults and families, persons with co-occurring disorders, adults in the criminal justice system/jail diversion, and youth in the juvenile justice system(Group IIA); and reduction of disparities in access to mental health services in non-mental health settings among racial/ethnic minorities (Group IIB).

Eligibility

Eligibility to apply for Build Mentally Healthy Communities awards will be limited to cities, counties, and tribal governments and their agencies. Eligibility is restricted to local governments in order to add needed mental health services at the local level. The following are examples of units of local government who may apply: Local Departments of Mental Health, Substance Abuse, Public Health and the like; local Departments of Corrections, Police, Juvenile Justice, and the like; local Departments of Education; and local mayors. In developing their programs, the above governmental units are strongly encouraged to partner with appropriate community-based organizations, including: Community-based health, mental health and social organizations; public or private universities; faith-based service organizations; consumer and family groups; parents' and teachers' organizations; and service organizations serving racial/ethnic minorities.

Availability of Funds

It is estimated that $14 million will be available to support approximately 35 awards under this GFA in FY2001. $5 million will be dedicated to prevention and early intervention targeted to children and adolescents (Group I awards). $9 million will be for local service expansion (Group II awards) including $6.5 million for expansion of services to priority populations in non-mental health settings (Group IIA awards) and $2.5 million for programs targeting reductions in racial/ethnic disparities in mental health or access to mental health services (Group IIB awards). However, all applicants are encouraged to be attentive to the needs of racial/ethnic minorities. The average award is expected to be approximately $400,000 in total costs (direct and indirect), with ten percent of the total award to be used to evaluate the program. Actual funding levels will depend upon the availability of funds.

Period of Support

Support may be requested for a period of up to 3 years (in three budget periods of one year each). Annual awards will be made subject to continued availability of funds and progress achieved by awardees.

Criteria for Review and Funding

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number

93.230.

Program Contact

For questions concerning program issues on Group I contact: Gail F. Ritchie, M.S.W., Special Programs Development Branch, Division of Program Development, Special Populations, and Projects, Center for Mental Health Services, Substance Abuse and Mental Health Services Administration, 5600 Fishers Lane, Room 17C-05, Rockville, MD 20857, Telephone: 301-443-1752, Email: gritchie@samhsa.gov.

For questions concerning program issues on Group IIA, Homeless Adults and Families, contact: Pamela J. Fischer, Ph.D., Homeless Programs Branch, Division of Knowledge Development and Systems Change, Center for Mental Health Services, Substance Abuse and Mental Health Services Administration, 5600 Fishers Lane, Room 11C-05, Rockville, MD 20857, (301) 443-4569, e-mail: pfischer@samhsa.gov.

For questions concerning program issues on Group IIA, Persons with Co-Occurring Disorders, contact: Lawrence D. Rickards, Ph.D., Homeless Programs Branch, Division of Knowledge Development and Systems Change, Center for Mental Health Services, Substance Abuse and Mental Health Services Administration, 5600 Fishers Lane, Room 11C-05, Rockville, MD 20857, (301) 443-3707, e-mail: lrickard@samhsa.gov.

For questions concerning program issues on Group IIA, Adults in the Criminal Justice System, contact: Susan E. Salasin, Community Support Branch, Division of Knowledge Development and Systems Change, Center for Mental Health Services, Substance Abuse and Mental Health Services Administration, 5600 Fishers Lane, Room 11C-26, Rockville, MD 20857, (301) 443-3653, e-mail: ssalasin@samhsa.gov.

For questions concerning program issues on Group IIA, Youth in the Juvenile Justice System, contact: Pat Shea, M.S.W., M.A., Special Programs Development Branch, Division of Program Development, Special Populations, and Projects Center for Mental Health Services, Substance Abuse and Mental Health Services Administration, 5600 Fishers Lane, Room 17C-05, Rockville, MD 20857, (301) 443-3655, e-mail: pshea@samhsa.gov.

For questions concerning program issues on Group IIB, contact: Teresa Chapa, Ph.D., M.P.A., Division of Program Development, Special Populations, and Projects, Center for Mental Health Services, Substance Abuse and Mental Health Services Administration, 5600 Fishers Lane, Room 17C-05, Rockville, MD 20857, (301) 443-4016 e-mail: tchapa@samhsa.gov.

For questions regarding grants management issues, contact: Gwendolyn Simpson, Division of Grants Management, OPS, Substance Abuse and Mental Health Services Administration, 5600 Fishers Lane, Rm 13-103, Rockville, MD 20857, (301) 443-4456, E-mail: gsimpson@samhsa.gov.

Public Health System Reporting Requirements

The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-Use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2001 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: March 9, 2001.
Richard Kopanda,
Executive Officer, Substance Abuse and Mental Health Services Administration.

[FR Doc. 01-6433 Filed 3-14-01; 8:45 am]

BILLING CODE 4162-20-U